ENVIRONMENTAL PROTECTION AGENCY

40 CFR Part 52

[WI42-7306b; FRL-7029-4]

Approval and Promulgation of State Implementation Plans; Wisconsin

AGENCY: Environmental Protection Agency.

ACTION: Notice of proposed rulemaking.

SUMMARY: The Environmental Protection Agency (EPA) is proposing to approve a State Implementation Plan (SIP) revision submitted by the State of Wisconsin. This revision requires the implementation of an enhanced motor vehicle inspection and maintenance (I/M) program in seven counties in southeast Wisconsin. The program reduces air pollution from motor vehicles by identifying and requiring repair of high emitting vehicles. This action is being taken under the Clean Air Act.

In the final rules section of this Federal Register, EPA is approving the State's request as a direct final rule without prior proposal because EPA views this action as noncontroversial and anticipates no adverse comments. A detailed rationale for approving and disapproving portions of the State's request is set forth in the direct final rule. The direct final rule will become effective without further notice unless the Agency receives relevant adverse written comment on this proposed rule within 30 days of this publication. Should EPA receive adverse comment, it will publish a document informing the public that the direct final rule will not take effect and that EPA will address adverse comments in a subsequent final rule based on this proposed rule. If EPA does not receive adverse comments, the direct final rule will take effect on the date stated in that document and EPA will not take further action on this proposed rule. EPA does not plan to institute a second comment period on this action. Any parties interested in commenting on this document should do so at this time.

DATES: EPA must receive written comments by September 17, 2001.

ADDRESSES: Send written comments to: Carlton T. Nash, Chief, Regulation Development Section, Air Programs Branch (AR-18J), United States Environmental Protection Agency, 77 West Jackson Boulevard, Chicago, Illinois 60604.

FOR FURTHER INFORMATION CONTACT: John Mooney at (312) 886-6043.

SUPPLEMENTARY INFORMATION: For additional information see the direct final rule published in the rules section of this Federal Register. Copies of the documents relevant to this action are available for public inspection during normal business hours at the above address. (Please telephone John Mooney at (312) 886-6043 before visiting the Region 5 Office.)

Authority: 42 U.S.C. 7401-7671 et seq.

Dated: July 31, 2001.
David A. Ullrich,
Acting Regional Administrator, Region 5.

[FR Doc. 01-20504 Filed 8-15-01; 8:45 am]

BILLING CODE 6560-50-P